ENVIRONMENTAL PROTECTION AGENCY

[OAR-2005-0078, FRL-7878-7]

Agency Information Collection Activities: Proposed Collection; Comment Request; National Survey on Environmental Management of Asthma, EPA ICR Number 1996.03, OMB Control Number 2060-0490

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on August 31, 2005. Before submitting the ICR to OMB for review and approval, EPA is soliciting comments on specific aspects of the proposed information collection as described below.

DATES: Comments must be submitted on or before April 30, 2005.

ADDRESSES: Submit your comments, referencing docket ID number OAR-2005-0078, to EPA online using EDOCKET (our preferred method), by e-mail to a-and-r-docket@epa.gov, or by mail to: EPA Docket Center, Environmental Protection Agency, Air and Radiation Docket (6102T), 1200 Pennsylvania Ave., NW., Washington, DC 20460.

FOR FURTHER INFORMATION CONTACT: Dr. Susan Conrath, Indoor Environments Division, Office of Radiation and Indoor Air, U.S. Environmental Protection Agency, 1200 Pennsylvania Ave., NW., Washington, DC 20460; telephone number: (202) 343-9389; fax number: (202) 343-2393; e-mail address: conrath.susan@epa.gov.

SUPPLEMENTARY INFORMATION: EPA has established a public docket for this ICR under Docket ID number OAR-2005-0078, which is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742, fax: (202) 566-1741. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Affected entities: Entities potentially affected by this action are all individuals throughout the United States with publicly listed residential telephone numbers.

Title: National Survey on Environmental Management of Asthma

Abstract: Executive Order 13045, issued in 1997, directed each federal agency to identify, assess, and address environmental health and safety risks for children. This executive order also created the Task Force on Environmental Health Risks and Safety Risks in Children, co-chaired by the Secretary of Health and Human Services (HHS) and the Administrator of the Environmental Protection Agency. In April 1998, this Task Force identified four priority areas, one of which was childhood asthma. In response, EPA launched efforts to better understand the role that environmental factors, including airborne allergens and irritants, play in the onset of asthma and the triggering of asthma symptoms. Indoor allergens include those from house dust mites, cockroaches, mold, and animal dander. In addition, exposure to environmental tobacco smoke (ETS) has also been shown to be a major determinant of asthma symptoms.

EPA is working to integrate the management of environmental factors with the medical treatment of asthma, particularly among children and low-income populations. To evaluate the effectiveness of its current outreach efforts, EPA proposes to collect data from individual U.S. households through a telephone survey. This survey will be used to gain information regarding the number of individuals with asthma who have taken steps to improve the quality of their indoor environment as part of their approach to managing the disease, as well as any barriers they may have encountered while attempting to do so. EPA will compare the data gained from this survey to a similar survey completed in 2003. These data will help the Agency determine if it has reached its goal established by the Government Performance and Results Act of 1993 (GPRA). Specifically, EPA's goal is that 2.5 million people with asthma, including one million children and 200,000 low-income adults, will have taken steps to reduce their exposure to indoor environmental asthma triggers by 2005.

EPA intends to conduct the survey once during the period for which this ICR is in effect. EPA will conduct the survey in two phases. The first phase is intended to identify households where either an adult asthmatic or child with asthma resides. Individuals who participate in the first phase of EPA's survey will be chosen at random from U.S. households with publicly listed telephone numbers. EPA expects that 10 to 15 percent of individuals who participate in its screening survey will have asthma or live in a household with someone who does. After responding to several screening questions, adult asthmatics and parents of children with asthma will be invited to participate in a longer, more in-depth telephone survey. EPA intends to over-sample in communities known to have a high percentage of low-income households to ensure that the Agency is able to evaluate the effectiveness of its outreach efforts to this target population. The National Survey on Environmental Management of Asthma is voluntary. EPA does not expect to receive confidential information from the individuals who voluntarily participate in the survey. However, if a respondent does consider the information submitted to be of a proprietary nature, EPA will assure its confidentiality based on the provisions of 40 CFR part 2, subpart B, “Confidentiality of Business Information.”

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates the annual public reporting burden for this collection of information to be 1,339 hours. This is a total estimated burden of 4,017 hours for completion of this one-time survey. The estimated number of respondents is 52,591. The public reporting burden ranges between 3.5 minutes and 13.5 minutes per response, depending on whether or not the survey respondent has asthma or lives with someone who has asthma. This survey effort is expected to cost approximately $1.96 per respondent living in a non-asthmatic household; $3.36 per respondent living in an asthmatic household, but participating only in the screening survey; and $7.56 per respondent participating in both the screening survey and the survey itself. Respondents will incur no capital, start-up costs, or operation and maintenance costs as a result of this survey. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: February 22, 2005.
Thomas E. Kelly,
Director, Indoor Environments Division.

[FR Doc. 05-3793 Filed 2-25-05; 8:45 am]

BILLING CODE 6560-50-P